DEPARTMENT OF COMMERCE

National Oceanic and Atmospheric Administration

RIN 0648-XD047

Fisheries of the Caribbean, Gulf of Mexico, and South Atlantic; Generic Accountability Measure and Dolphin Allocation Amendment

AGENCY: National Marine Fisheries Service (NMFS), National Oceanic and Atmospheric Administration (NOAA), Commerce.

ACTION: Notice of Intent (NOI) to prepare a draft environmental impact statement (DEIS); request for comments.

SUMMARY: NMFS, Southeast Region, in collaboration with the South Atlantic Fishery Management Council (Council), intends to prepare a DEIS to describe and analyze a range of alternatives for management actions to be included in the Generic Accountability Measure (AM) and Dolphin Allocation Amendment. The Generic AM and Dolphin Allocation Amendment would amend the Fishery Management Plans (FMPs) for: the Dolphin and Wahoo Fishery of the Atlantic; the Snapper-Grouper Fishery of the South Atlantic Region; and the Golden Crab Fishery of the South Atlantic Region. The Generic AM and Dolphin Allocation Amendment will consider alternative AMs for snapper-grouper species and golden crab, as well as alternatives to modify existing commercial and recreational sector allocations for dolphin. The purpose of this NOI is to solicit public comments on the scope of issues to be addressed in the DEIS.

DATES: Written comments on the scope of issues to be addressed in the DEIS will be accepted until March 3, 2014.

ADDRESSES: You may submit comments on the NOI identified by “NOAA-NMFS-2013-0181” by any of the following methods:

• Electronic submissions: Submit electronic comments via the Federal e-Rulemaking Portal: http://www.regulations.gov. Go to www.regulations.gov/#!docketDetail;D=NOAA-NMFS-2013-0181, click the “Comment Now!” icon, complete the required fields, and enter or attach your comments.

• Mail: Submit written comments to Jack McGovern, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous). Attachments to electronic comments will be accepted in Microsoft Word, Excel, or Adobe PDF file formats only.

FOR FURTHER INFORMATION CONTACT: Jack McGovern, Southeast Regional Office, telephone: 727-824-5305, or email: john.mcgovern@noaa.gov. Kim Iverson, Public Information Officer, South Atlantic Fisheries Management Council, 4055 Faber Place Drive, Suite 201, North Charleston, SC 29405; telephone: 843-571-4366, or email: kim.iverson@safmc.net.

SUPPLEMENTARY INFORMATION: The Council and NMFS have implemented AMs for snapper-grouper species, AMs for golden crab, and sector allocations for dolphin.

AMs for snapper-grouper species were established in 2010 through Amendments 17A and 17B to the Snapper-Grouper Fishery of the South Atlantic Region (75 FR 76874, December 9, 2010, and 75 FR 82280, December 30, 2010, respectively) and in 2012 through the Comprehensive ACL Amendment (77 FR 15916, March 16, 2012) and Amendment 24 to the Snapper-Grouper Fishery of the South Atlantic Region (77 FR 34254, June 11, 2012). AMs for golden crab were established in 2012 through the Comprehensive ACL Amendment (77 FR 15916, March 16, 2012). The DEIS for the Generic AM and Dolphin Allocation Amendment would consider alternatives to modify existing AMs for these species to provide consistency of AMs among species, and ensure overfishing does not occur.

Sector allocations for dolphin were established in 2012 through the Comprehensive ACL Amendment (77 FR 15916, March 16, 2012), using a formula which provided equal weighting to long-term and short-term trends in landings. The long-term landings trend was from 1986 through 2008, and the short-term trend used landings from 2006 through 2008. The DEIS for the Generic AM and Dolphin Allocation Amendment would consider alternatives to modify existing sector allocations for dolphin.

NMFS, in collaboration with the Council, will develop a DEIS to describe and analyze alternatives to address the management needs described above including the “no action” alternative. In accordance with NOAA's Administrative Order 216-6, Section 5.02(c), Scoping Process, NMFS, in collaboration with the Council, has identified preliminary environmental issues as a means to initiate discussion for scoping purposes only. The public is invited to provide written comments on the preliminary issues, which are identified as actions and alternatives in the Generic AM and Dolphin Allocation Amendment scoping document. These preliminary issues may not represent the full range of issues that eventually will be evaluated in the DEIS.

After the DEIS associated with Generic AM and Dolphin Allocation Amendment is completed, it will be filed with the Environmental Protection Agency (EPA). After filing, the EPA will publish a notice of availability of the DEIS for public comment in the Federal Register. The DEIS will have a 45-day comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

The Council and NMFS will consider public comments received on the DEIS in developing the final environmental impact statement (FEIS), and before voting to submit the final amendment to NMFS for Secretarial review, approval, and implementation. NMFS will announce in the Federal Register the availability of the final amendment and FEIS for public review during the Secretarial review period, and will consider all public comments prior to final agency action to approve, disapprove, or partially approve the final amendment.

NMFS will announce, through a document published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: January 28, 2014.
Sean F. Corson,
Acting Deputy Director, Office of Sustainable Fisheries, National Marine Fisheries Service.

[FR Doc. 2014-02011 Filed 1-30-14; 8:45 am]

BILLING CODE 3510-22-P